DEPARTMENT OF HOUSING AND URBAN DEVELOPMENT

[Docket No. FR-4736-N-19]

Notice of Proposed Information Collection for Public Comment-Public Housing Reform-Admission and Occupancy Requirement on Residency Preferences, Individual Savings Accounts for Residents, FSS Action Plan, Over-Income Small PHAs

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: March 4, 2003

ADDRESSES: Interested persons are invited to submit comments regarding this proposal. Comments should refer to the proposal by name and/or OMB Control number and should be sent to: Mildred M. Hamman, Reports Liaison Officer, Public and Indian Housing, Department of Housing and Urban Development, 451 7th Street, SW., Room 4249, Washington, DC 20410-5000.

FOR FURTHER INFORMATION CONTACT: Mildred M. Hamman, (202) 708-0614, extension 4128. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public Housing Reform-Admission and Occupancy Requirements for Residency Preferences, Community Services, Individual Savings Accounts for Residents, FSS Action Plan, Over-Income Small PHAs.

OMB Control Number: 2577-0230.

Description of the need for the information and proposed use: Public Housing Agencies (PHAs) will submit to HUD information on admission and occupancy requirements to ensure statute mandates are implemented. The Act allows PHAs to establish their own system for making dwelling units or Section 8 assistance available to families having certain characteristics. For public housing, the 1998 Act created optional deductions for PHAs to use to promote self-sufficiency; permissive deductions must be described in the agency's written policies. PHAs may establish and maintain individual savings accounts for public housing residents who pay income-based rents. The PHA's Annual Plan (2577-0226) must include a description of the community service and self-sufficiency requirements (8 hours per month).

Agency form numbers, if applicable: None.

Members of affected public: State, or Local Government.

Estimation of the total number of hours needed to pare the information collection including number of respondents, frequency of response, and hours of responses:

3,400 respondents, annually, 50 average hours per response, 169,300 total reporting burden.

Status of the proposed information collection: Extension of a currently approved collection, without change.

Authority: Section 3506 of the paperwork Reduction Act of 1995, 44 U.S.C. Chapter 35, as amended.

Dated: December 27, 2002.
William Russell,
Deputy Assistant Secretary for Public Housing and Voucher Programs.

[FR Doc. 03-31 Filed 1-2-03; 8:45 am]

BILLING CODE 4210-33-M